DEPARTMENT OF ENERGY

Environmental Management Site-Specific Advisory Board, Savannah River Site

AGENCY: Office of Environmental Management, Department of Energy.

ACTION: Notice of open meeting: correction.

SUMMARY: On September 2, 2022, the Department of Energy published a notice of open meeting announcing a meeting in the Federal Register on September 26-27, 2022, of the Environmental Management Site-Specific Advisory Board, Savannah River Site. This document makes a correction to that notice.

FOR FURTHER INFORMATION CONTACT: Amy Boyette, Office of External Affairs, U.S. Department of Energy, Savannah River Operations Office, P.O. Box A, Aiken, SC 29802; Phone: (803) 952-6120.

Corrections

In the Federal Register of September 2, 2022, in FR Doc. 2022-18969, on page 54209, please make the following correction:

In that notice under ADDRESSES, third column, third paragraph, the meeting address has been changed. The original address was Holiday Inn & Suites, 2225 Boundary Street, Beaufort, SC 29902. The new address is Embassy Suites, 605 W Oglethorpe Avenue, Savannah, GA 31401. The reason for the correction is the original venue can no longer host the meeting.

Signing Authority

This document of the Department of Energy was signed on September 7, 2022, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 8, 2022.
Treena V. Garrett,
Federal Register Liaison Officer, U.S. Department of Energy.

[FR Doc. 2022-19761 Filed 9-12-22; 8:45 am]

BILLING CODE 6450-01-P